DEPARTMENT OF COMMERCE

International Trade Administration

[A-570-831]

Fresh Garlic From the People's Republic of China: Partial Rescisson of Antidumping Duty New Shipper Review

AGENCY: Import Administration, International Trade Administration, Department of Commerce.

ACTION: Notice of partial rescission of the antidumping duty new shipper review of fresh garlic from the People's Republic of China.

SUMMARY: On July 31, 2002, the Department of Commerce published the preliminary results of the new shipper review of the antidumping duty order on fresh garlic from the People's Republic of China. The review covers Jinan Yipin Corporation, Ltd., and Shandong Heze International Trade and Developing Company. The period of review is November 1, 2000, through October 31, 2001. For the reasons discussed below, we are rescinding the review of Shandong Heze International Trade and Developing Company.¹

¹ We are also conducting a new shipper review of the antidumping duty order on fresh garlic from the People's Republic of China for Jinan Yipin Corporation, Ltd. On October 22, 2002, we issued a notice extending the final results of that new shipper review.

EFFECTIVE DATE: October 28, 2002.

FOR FURTHER INFORMATION CONTACT: Brian Ellman or Mark Ross, Office of AD/CVD Enforcement 3, Import Administration, International Trade Administration, U.S. Department of Commerce, 14th Street and Constitution Avenue, NW., Washington, DC 20230; telephone: (202) 482-4852 and (202) 482-4794, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (April 2001).

Scope of the Order

The products covered by this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) Garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheading 0703.20.0010, 0703.20.0020 0703.20.0090, 0710.80.7060, 0710.80.9750, 0711.90.6000, and 2005.90.9700 of the Harmonized Tariff Schedule of the United States (HTSUS). Although the HTSUS subheadings are provided for convenience and customs purposes, our written description of the scope of this order is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to the Customs Service to that effect.

Background

On July 31, 2002, we published in the Federal Register the notice of preliminary results of the new shipper review of the antidumping duty order on fresh garlic from the People's Republic of China (PRC), in which we indicated our intent to rescind the review of Shandong Heze International Trade and Developing Company (Shandong Heze) based on lack of evidence supporting Shandong Heze's entitlement to a separate rate from the PRC-wide entity. See Fresh Garlic from the People's Republic of China: Preliminary Results of Antidumping Duty New Shipper Review and Intent to Rescind in Part, 67 FR 49669 (July 31, 2002); see also Shandong Heze International Trade and Developing Company—Separate Rates Analysis and Deficient Submissions Memorandum, dated July 24, 2002, available in the Central Records Units (CRU), Room B-099 of the main Department of Commerce Building. In the notice we invited interested parties to comment on our preliminary results.

On August 15, 2002, Shandong Heze filed a case brief addressing issues raised in the Department's preliminary results of review, and the petitioner filed rebuttal comments on August 21, 2002. Subsequent to our receipt of the case brief, we identified an additional deficiency in Shandong Heze's reporting and, on September 19, 2002, we released for comment the draft decision memorandum in which we identified the deficiency. See Shandong Heze International Trade and Developing Company—Recission of New Shipper Review Due to Lack of Required Certification, dated September 19, 2002, available in CRU. We did not receive any comments from either party by the due date we established. Therefore, the analysis we proposed in that memorandum remains unchanged.

Rescission of Review

The Department's regulations at 19 CFR 351.214(b)(2)(ii) state that, if the company requesting the review is the exporter but not the producer of the subject merchandise, then the request from this company must contain: (1) A certification that the company did not export subject merchandise to the United States during the period of investigation (POI), and (2) a certification from the person or company that produced or supplied the subject merchandise to the company requesting the review that the producer or supplier did not export the subject merchandise to the United States during the POI. Shandong Heze did not supply the Department with the certifications required in a new shipper review under 351.214(b)(2)(ii)(B) of the Department's regulations. As discussed above, the Department released to the parties for comment a draft decision memorandum in which it identified the deficiency and, in the memorandum, a prompt rescission of the review of Shandong Heze was recommended. As indicated above, we did not receive any comments on this issue. Therefore, we find it appropriate to rescind the new shipper review of Shandong Heze based on its failure, despite multiple opportunities, to provide the proper certifications pursuant to 19 CFR 351.214(b)(2)(ii).

Analysis of Comments Received

Because the Department is rescinding this review based on Shandong Heze's failure to provide the proper certifications, we have not addressed the other, unrelated arguments offered by the parties after issuance of the preliminary results of the new shipper review.

Notification

Bonding is no longer permitted to fulfill security requirements for shipments from Shandong Heze of fresh garlic from the PRC entered, or withdrawn from warehouse, for consumption in the United States on or after the publication of this rescission notice in the Federal Register.

This notice serves as a final reminder to importers of their responsibility under 19 CFR 351.402(f)(2) to file a certificate regarding the reimbursement of antidumping duties prior to liquidation of the relevant entries during these review periods. Failure to comply with this requirement, pursuant to 19 CFR 351.402(f)(3), could result in the Department's presumption that reimbursement of antidumping duties occurred and the subsequent assessment of doubled antidumping duties.

This notice also serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

We are issuing and publishing this determination and notice in accordance with sections 751(a)(2)(B)(iv) and 777(i) of the Tariff Act of 1930, as amended.

Dated: October 22, 2002.
Faryar Shirzad,
Assistant Secretary for Import Administration.

[FR Doc. 02-27395 Filed 10-25-02; 8:45 am]

BILLING CODE 3510-DS-M